NUCLEAR REGULATORY COMMISSION

[NRC-2009-0276]

Notice of Issuance of Regulatory Guide

AGENCY: Nuclear Regulatory Commission.

ACTION: Notice of Issuance and Availability of Regulatory Guide 1.43, Revision 1, “Control of Stainless Steel Weld Cladding of Low-Alloy Components.”

FOR FURTHER INFORMATION CONTACT: Gary L. Stevens, Office of Nuclear Regulatory Research, U.S. Nuclear Regulatory Commission, Washington, DC 20555-0001, telephone (301) 251-7569 or e-mail Gary.Stevens@nrc.gov.

SUPPLEMENTARY INFORMATION:

I. Introduction

The U.S. Nuclear Regulatory Commission (NRC or Commission) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of Regulatory Guide 1.43, “Control of Stainless Steel Weld Cladding of Low-Alloy Steel Components,” was issued with a temporary identification as Draft Regulatory Guide, DG-1221. This guide describes methods that the staff of the NRC considers acceptable for the selection and control of welding processes used for cladding ferritic steel components with austenitic stainless steel to restrict practices that could result in underclad cracking. This guide is limited to forgings and plate material and does not apply to other product forms such as castings and pipe. Adequate resistance to underclad cracking for these latter items should be ensured on a case-by-case basis. This guide applies to light-water-cooled reactors.

II. Further Information

In June 2009, DG-1221 was published with a public comment period of 60 days from the issuance of the guide. The public comment period was extended until October 1, 2009. The staff's responses to the comments received are located in the NRC's Agencywide Documents Access and Management System (ADAMS) under Accession No. ML101670489. Electronic copies of Regulatory Guide 1.43, Revision 1 are available through the NRC's public Web site under “Regulatory Guides” at http://www.nrc.gov/reading-rm/doc-collections/. The regulatory analysis may be found under ADAMS Accession No. ML101670471.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 7th day of March, 2011.
For the Nuclear Regulatory Commission.
Thomas H. Boyce,
Chief, Regulatory Guide Development Branch, Division of Engineering, Office of Nuclear Regulatory Research.

[FR Doc. 2011-5967 Filed 3-14-11; 8:45 am]

BILLING CODE 7590-01-P